DEPARTMENT OF THE INTERIOR

National Park Service

Abbreviated Final Environmental Impact Statement and General Management Plan; Minidoka Internment National Monument; Jerome County, ID; Notice of Availability

Summary: Pursuant to section 102(2)(C) of the National Environmental Policy Act of 1969 (Pub. L. 91-190, as amended), and the Council on Environmental Quality Regulations (40 CFR part 1500-1508), the National Park Service (NPS), Department of the Interior, has prepared an abbreviated final environmental impact statement (FEIS) for the proposed General Management Plan (GMP) for Minidoka Internment National Monument located in southern Idaho. This FEIS describes and analyzes four GMP alternatives that respond to both NPS planning requirements and to the public's concerns and issues, identified during the extensive scoping and public involvement process. Each alternative presents management strategies for resource protection and preservation, education and interpretation, visitor use and facilities, land protection and boundaries, and long-term operations and management of the national monument. The potential environmental consequences of all the alternatives, and mitigation strategies, are identified and analyzed in the FEIS. In addition to a “no-action” alternative, an “environmentally preferred” alternative is identified.

Background: A Notice of Intent formally initiating the conservation planning and environmental impact analysis process was published in the Federal Register on April 24, 2002. Early public involvement methods included news releases, public meetings and workshops, presentations and meetings with interested publics, newsletter mailings, and Web site postings. This strong public outreach was deemed necessary for successful planning, given the nature and sensitivity of the national monument's history, the speed in which the national monument was established, as well as its remote location.

Preceding the formal planning process, NPS staff conducted informational meetings about the national monument with Japanese American organizations, community organizations, various governmental entities, potential stakeholder groups, and individuals during the spring, summer and early fall of 2002. Approximately 50 meetings were held in Idaho, Washington, Oregon, and Alaska during this time, and approximately 2,000 people were contacted. The purpose of these initial meetings was to provide information about the establishment of Minidoka Internment National Monument as a new unit of the National Park System and to help characterize the scale and extent of the conservation planning process.

The NPS encouraged public involvement during three phases of the EIS process. The initial scoping phase was intended to elicit issues, concerns, and suggestions deemed necessary to address during the overall planning. Nine public workshops were held in Idaho, Washington, and Oregon in November 2002 (250 people provided comments in workshops, and another 225 people provided written comments). In the second phase the NPS engaged the public in developing preliminary alternatives; these alternatives were intended to address the specific issues and concerns that surfaced during the public scoping. Eleven public workshops were held in Idaho, Washington, and Oregon in July and August 2003 (215 people provided comments in the workshops, and another 50 people provided written comments). The third phase of involvement afforded the opportunity for public review of the Draft EIS/GMP, which was released on June 21, 2005. Government entities and the public were invited to submit comments by regular mail, e-mail, fax, and online. In addition, the NPS held ten public meetings in Idaho, Washington, Oregon, and California in July and August 2005 to provide further opportunity to learn about the proposed plan and to offer comments; over 200 people attended these meetings. During the formal public comment period, which closed on September 19, 2005, the NPS received comments from over 365 individuals and organizations, including 150 written responses (all substantive comments, and responses, are documented in the abbreviated Final EIS).

Throughout the planning process, the public's comments and recommendations have provided the foundation for the new GMP, represented in the national monument's purpose, significance, interpretive themes, alternatives, and particularly as incorporated in the proposed action.

Proposed Plan and Alternatives: Alternative A is the “no-action” alternative and would continue current management practices, maintaining general management guidance for incremental and minimal changes in park operations, staffing, visitor services, and facilities to accommodate visitors. While the historic resources of the site would continue to be protected, only minor additional site work would be anticipated. The “no-action” alternative is the baseline for evaluating and comparing the changes and impacts of the three “action” alternatives.

Alternative B emphasizes the development and extensive use of outreach and partnerships to assist NPS staff in telling the Minidoka story to the American people. Off-site visitor education and interpretation would be conducted through diverse comprehensive programs developed in cooperation with partners, including school districts, museums, and educational and legacy organizations and institutions. Alternative B would focus on identifying off-site facilities for education and interpretation with minimal new development at the national monument site. Historic structures would be adaptively reused for visitor and monument functions and for minimal administrative and operational needs. Key historic features would be delineated, restored, or rehabilitated. On-site education and interpretation would be accomplished through a range of self-exploratory visitor experiences.

Alternative C, the NPS's proposed action, emphasizes on-site education and interpretation and the extensive treatment and use of cultural resources in telling the Minidoka story. On-site education and interpretation would be accomplished through a wide range of visitor experiences, including immersion into the historic scene, interaction with a variety of educational and interpretive media and personal services, and participation in creative and self-directed activities. Off-site visitor education and interpretation would be conducted through diverse programs developed in cooperation with partners, including school districts, museums, and educational and legacy organizations and institutions.

The proposed plan would use various preservation techniques to protect and enhance historic resources, such as delineation, stabilization, restoration, rehabilitation, and limited reconstruction. These historic resources would be used for interpretive purposes to accurately and authentically convey the history and significance of the national monument. The establishment of one complete barracks block exhibit in its original location and configuration would be the cornerstone of interpretive services and facilities at the national monument, essential for understanding and appreciation of the incarceration experience and the significance of the national monument. A visitor contact facility and maintenance area would be developed by adaptively reusing existing historic buildings. There would be minimal new development. Alternative C is also the “environmentally preferred” alternative.

The proposed plan would require congressional legislation to authorize a boundary adjustment to include areas where barracks historically stood in order to reestablish a complete residential block in an original historic location. Additionally, the NPS would request congressional legislation to transfer the historic Minidoka Relocation Center landfill, located 1 mile north of the national monument, from the BLM to the NPS. Alternative C recommends a name change to Minidoka National Historic Site, to be more reflective of its historic value.

Alternative D identifies several actions that would focus on education and interpretation on-site, specifically through the development of new visitor facilities. The east end site would be used to develop new facilities and to provide space for a new visitor center, education and research functions, along with a new Issei memorial and garden. On-site education and interpretation would be accomplished through a wide range of visitor experiences, including interaction with a variety of educational and interpretive media, participation in creative and self-guided activities, and limited access of the historic scene. Visitor education programs, adaptive reuse of historic structures for park use, and the establishment of formal partnerships for education and outreach purposes would complement the new construction. Alternative D would focus on sound cultural resource management through preservation, restoration, rehabilitation, and reconstruction of certain historic features. Several actions would provide for the protection and enhancement of natural and scenic resources. Other actions would establish administrative and operational capabilities in terms of facilities and staffing. Most national monument staff activities would be on-site to manage resources and provide for visitor understanding and appreciation of the national monument. However, some off-site educational programs would complement the on-site programs through partnerships.

Copies: The Abbreviated Final EIS/GMP is now available. This document's abbreviated format requires that the material presented therein be integrated with the Draft EIS to fully describe the proposed GMP, potential environmental impacts, and public comments that have been received and evaluated. Interested persons and organizations wishing to express any concerns or provide relevant information may obtain the Abbreviated Final EIS/GMP by contacting the Superintendent, Minidoka Internment National Monument, P.O. Box 570, Hagerman, Idaho 83332-0570, or via telephone at (208) 837-4793 (copies of the Draft EIS are also available, if needed). This document may also be reviewed at area libraries, or obtained electronically via the following Web site at: http://parkplanning.nps.gov/miin. Please note that names and addresses of all respondents will become part of the public record. It is our practice to make comments, including names, home addresses, home phone numbers, and email addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives of or officials of organizations or businesses, available for public inspection in their entirety.

Decision Process: Following release of the Abbreviated Final GMP/EIS, a Record of Decision will be prepared and approved not sooner than 30 days after the EPA has published its notice of filing of the document in the Federal Register. A notice of the approved GMP would be similarly published. As a delegated EIS, the official responsible for the final decision is the Regional Director, Pacific West Region, National Park Service. Subsequently, the official responsible for implementing the approved GMP would be the Superintendent, Minidoka Internment National Monument.

Dated: July 12, 2006.
Jonathan B. Jarvis,
Regional Director, Pacific West Region.

[FR Doc. E6-11520 Filed 7-19-06; 8:45 am]

BILLING CODE 4312-DC-P